TENNESSEE VALLEY AUTHORITY

[Meeting No. 07-04]

Sunshine Act Meeting

Time and Date: 9 a.m. (EDT), August 1, 2007, TVA West Tower Auditorium, 400 West Summit Hill Drive, Knoxville, Tennessee 37902.

Status: Open.

Agenda

Old Business

Approval of minutes of May 31, 2007, Board Meeting.

New Business

1. President's Report.

2. Report of the Finance, Strategy, and Rates Committee.

A. Annual budget.

B. Customer Items.

i. Time-of-use power supply arrangements with a directly-served customer.

ii. Real time energy arrangements.

iii. Implementation of 5-Minute Response program.

iv. Interconnection agreements with the cities of Princeton and Paducah, Kentucky.

v. Limited interruptible power/Limited firm power.

C. PURPA determinations.

D. Financial trading program modifications.

3. Report of the Operations, Environment, and Safety Committee.

A. Watts Bar Nuclear Plant Unit 2 construction and startup.

B. Authorization to purchase a combined cycle generating facility.

C. Amended Board Practice on Fuel, Power Purchases or Sales, and Related Contract Approvals.

4. Report of the Human Resources Committee.

For further information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 25, 2007.
Maureen H. Dunn,
General Counsel and Secretary.

[FR Doc. 07-3717 Filed 7-26-07; 12:44 pm]

BILLING CODE 8120-08-P